NATIONAL AERONAUTICS AND SPACE ADMINISTRATION

[Notice (01-058)]

NASA Advisory Committees; Renewal of the Aerospace Safety Advisory Panel

AGENCY: National Aeronautics and Space Administration (NASA).

ACTION: Notice of Renewal of the Charter of NASA's Aerospace Safety Advisory Panel.

SUMMARY: Pursuant to sections 14(b)(1) and 9(c) of the Federal Advisory Committee Act (Pub. L. 92-463), and after consultation with the Committee Management Secretariat, General Services Administration, the Administrator of the National Aeronautics and Space Administration has determined that a renewal of the Aerospace Safety Advisory Panel (ASAP) is in the public interest in connection with the performance of duties imposed upon NASA by law. The structure and duties of the ASAP remain unchanged. The charter for the ASAP now includes additional details on the aspects of safety that the Panel should include in their studies and advice to the NASA Administrator. These aspects of safety are fully consistent with the Agency Safety Initiative, a major commitment to safety as NASA's number one priority. The charter also addresses membership terms. In the case of panel members, the Administrator can extend members' service by no more than six years beyond their original 6 year term, thereby limiting service to a total of 12 years. Also, consultants will be appointed for a specific task and will serve no longer than the time required to complete that specific task, but not longer than 1 year. These provisions will ensure that the Panel has balanced representation of membership.

FOR FURTHER INFORMATION CONTACT: Ms. Kathy Dakon, Assistant Advisory Committee Management Officer, Mail Code Z, National Aeronautics and Space Administration, Washington, DC 20546, (202) 358-0732.

SUPPLEMENTARY INFORMATION: Information regarding the Aerospace Safety Advisory Panel is available on the world wide web at http://www.hq.nasa.gov/office/codeq/codeq-1.htm

Dated: May 3, 2001.
Beth M. McCormick,
Advisory Committee Management Officer, National Aeronautics and Space Administration.

[FR Doc. 01-11556 Filed 5-7-01; 8:45 am]

BILLING CODE 7510-01-M